DEPARTMENT OF TRANSPORTATION

Federal Highway Administration

Notice of Final Federal Agency Actions on Proposed Highway in California

AGENCY: Federal Highway Administration (FHWA), Department of Transportation (DOT).

ACTION: Notice of limitation on claims for judicial review of actions by the California Department of Transportation (Caltrans).

SUMMARY: The FHWA, on behalf of Caltrans, is issuing this notice to announce actions taken by Caltrans that are final within the meaning of 23 U.S.C. 139(l)(1). The actions relate to the proposed Eastbound (EB) State Route 91 (SR-91) Atlantic Ave. to Cherry Ave. Auxiliary Lane Improvements Project on SR-91 at post mile R11.8 to R13.2 within the County of Los Angeles, State of California. Those actions grant licenses, permits, and approvals for the project.

DATES: By this notice, the FHWA, on behalf of Caltrans, is advising the public of final agency actions subject to 23 U.S.C. 139(l)(1). A claim seeking judicial review of the Federal agency actions on the highway project will be barred unless the claim is filed on or before November 22, 2021. If the Federal law that authorizes judicial review of a claim provides a time period of less than 150 days for filing such claim, then that shorter time period still applies.

FOR FURTHER INFORMATION CONTACT: For Caltrans: Thoa Le, Senior Environmental Planner, Division of Environmental Planning, California Department of Transportation—District 7, 100 South Main Street, Los Angeles, CA 90012. Office hours: 8 a.m. to 5 p.m., telephone: (213) 266-6875, email: D07.91AtlanticToCherry@dot.ca.gov. For FHWA, contact David Tedrick at (916) 498-5024 or email david.tedrick@dot.gov.

SUPPLEMENTARY INFORMATION: Effective July 1, 2007, FHWA assigned, and the Caltrans assumed, environmental responsibilities for this project pursuant to 23 U.S.C. 327. Notice is hereby given that the Caltrans, has taken final agency actions subject to 23 U.S.C. 139(l)(1) by issuing licenses, permits, and approvals for the following highway project in the State of California: The Los Angeles County Metropolitan Transportation Authority (Metro), in cooperation with the Gateway Cities Council of Governments and Caltrans proposes to develop and implement an auxiliary lane on EB SR-91 within a 1.4-mile segment from the southbound Interstate 710 interchange connector to EB SR-91, to Cherry Avenue to enhance safety conditions, reduce congestion, and improve freeway operations. The actions by the Federal agencies, and the laws under which such actions were taken, are described in the Final Initial Study (IS)/Environmental Assessment (EA) with Mitigated Negative Declaration (MND)/Finding of No Significant Impact (FONSI) approved on May 24, 2021, and in other documents in the FHWA project records. The Final IS/EA with MND/FONSI, and other project records are available by contacting Caltrans at the addresses provided above. The Caltrans Final IS/EA with MND/FONSI can be viewed and downloaded from Reports menu on the project website at: https://www.metro.net/projects/i-605-corridor-hot-spots-program/SR-91-early-action-projects/ or viewed at Michelle Obama Neighborhood Library in the city of Long Beach. This notice applies to all Federal agency decisions as of the issuance date of this notice and all laws under which such actions were taken, including but not limited to:

(1) National Environmental Policy Act (NEPA) of 1969;

(2) Federal Aid Highway Act of 1970;

(3) U.S. EPA Section 404(b)(1) Guidelines (40 Code of Federal Regulations [CFR] 230);

(4) Clean Air Act Amendments of 1990 (CAAA);

(5) Clean Water Act of 1977 and 1987;

(6) Federal Water Pollution Control Act of 1972 (see Clean Water Act of 1977 & 1987);

(7) Safe Drinking Water Act of 1944, as amended;

(8) Endangered Species Act of 1973;

(9) Executive Order 13112, Invasive Species;

(10) Migratory Bird Treaty Act;

(11) Fish and Wildlife Coordination Act of 1934, as amended;

(12) Coastal Zone Management Act of 1972;

(13) Title VI of the Civil Rights Act of 1964, as amended.

(Catalog of Federal Domestic Assistance Program Number 20.205, Highway Planning and Construction. The regulations implementing Executive Order 12372 regarding intergovernmental consultation on Federal programs and activities apply to this program.)

Authority: 23 U.S.C. 139(l)(1).

Issued on: June 15, 2021.
Rodney Whitfield,
Director, Financial Services, Federal Highway Administration, California Division.

[FR Doc. 2021-13444 Filed 6-23-21; 8:45 am]

BILLING CODE 4910-RY-P